DEPARTMENT OF THE INTERIOR

Bureau of Land Management

[LLMT926000-11-L19100000-BJ0000-LRCME0R04646]

Notice of Filing of Plats of Survey; Montana

AGENCY: Bureau of Land Management, Interior.

ACTION: Notice of filing of plat of survey.

SUMMARY: The Bureau of Land Management (BLM) will file the plat of survey of the lands described below in the BLM Montana State Office, Billings, Montana, on April 28, 2011.

DATES: Protests of the survey must be filed before April 28, 2011 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Bureau of Indian Affairs, Rocky Mountain Region, Billings, Montana, and was necessary to determine individual and tribal trust lands.

The lands we surveyed are:

Principal Meridian, Montana

T. 28 N., R. 53 E.

The plat, in two sheets, representing the dependent resurvey of a portion of the subdivisional lines, a portion of the subdivision of sections 28, 29, and 34, the adjusted original meanders of the former left bank of the Missouri River, downstream through sections 28 and 29, and the subdivision of sections 28, 29, and 34, and the survey of an informative traverse and the meanders of the present left bank of the Missouri River, downstream through a portion of sections 28 and 29, an informative traverse and the limits of erosion, through a portion of section 29, and certain division of accretion lines, Township 28 North, Range 53 East, Principal Meridian, Montana, was accepted March 17, 2011.

T. 28 N., R. 54 E.

The plat, in two sheets, representing the dependent resurvey of a portion of the south boundary, a portion of the subdivisional lines, a portion of the subdivision of sections 31, 32, and 33, and the adjusted original meanders of the former left bank of the Missouri River, downstream through sections 31 and 32, the subdivision of sections 31, 32, and 33, and the survey of the meanders of the present left bank of the Missouri River, downstream through sections 31, 32, and 33, Township 28 North, Range 54 East, Principal Meridian, Montana, was accepted March 17, 2011.

We will place a copy of the plats, in four sheets, and related field notes we described in the open files. They will be available to the public as a matter of information. If the BLM receives a protest against this survey, as shown on these plats, in four sheets, prior to the date of the official filing, we will stay the filing pending our consideration of the protest. We will not officially file these plats, in four sheets, until the day after we have accepted or dismissed all protests and they have become final, including decisions or appeals.

Authority: 43 U.S.C. Chap. 3.

Dated: March 22, 2011.
Steven G. Schey,
Acting Chief Cadastral Surveyor, Division of Resources.

[FR Doc. 2011-7298 Filed 3-28-11; 8:45 am]

BILLING CODE 4310-DN-P